NUCLEAR REGULATORY COMMISSION

[NRC-2023-0034]

Draft NUREG: Operator Licensing Examiner Standards for Research and Test Reactors

AGENCY: Nuclear Regulatory Commission.

ACTION: Draft report; request for comment.

SUMMARY: The U.S. Nuclear Regulatory Commission (NRC) is issuing for public comment a draft NUREG, NUREG-1478, Revision 3, “Operator Licensing Examiner Standards for Research and Test Reactors.” This draft NUREG establishes the policies, procedures, and practices for the development, administration, and grading of written examinations and operating tests used for examining licensees and applicants for reactor operator and senior reactor operator licenses at research and test reactor facilities. It also provides procedures and guidance for maintaining operators' licenses and for the NRC to conduct requalification examinations when necessary. Draft NUREG-1478, Revision 3, introduces electronic systems and technology, includes current research and test reactor regulations, adjusts grading criteria for accuracy, and streamlines the examination standards by organizing them in topic-based sections for ease of use.

DATES: Submit comments by September 26, 2025. Comments received after this date will be considered if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2023-0034. Address questions about Docket IDs in Regulations.gov to Bridget Curran; telephone: 301-415-1003; email: Bridget.Curran@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Michele DeSouza, Office of Nuclear Reactor Regulation, U.S. Nuclear Regulatory Commission, Washington, DC 20555-0001; telephone: 301-415-0747; email: Michele.DeSouza@nrc.gov.

SUPPLEMENTARY INFORMATION:

I. Obtaining Information and Submitting Comments

A. Obtaining Information

Please refer to Docket ID NRC-2023-0034 when contacting the NRC about the availability of information for this action. You may obtain publicly available information related to this action by any of the following methods:

• Federal Rulemaking Website: Go to https://www.regulations.gov and search for Docket ID NRC-2023-0034.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. Draft NUREG-1478, Revision 3, is available in ADAMS under Accession No. ML25199A236.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0034 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

Draft NUREG-1478, Revision 3, improves research and test reactors operator licensing current processes and clarifies guidance as needed. Draft NUREG-1478, Revision 3 provides policies, procedures, and practices for the development, administration, and grading of examinations used for licensing operators at research and test reactors under the NRC's regulations in part 55 of title 10 of the Code of Federal Regulations, “Operators' Licenses.” This draft NUREG also provides guidance for maintaining operators' licenses and for the NRC to conduct requalification examinations when necessary. The NRC is issuing the draft NUREG to (1) incorporate the use of electronic systems and technology for application submittals and supporting facility documentation, (2) include current regulatory requirements pertaining to operator licensing at research and test reactors, (3) adjust grading criteria for the written examination to provide consistent and accurate grading, and (4) reorganize the examination standards to provide a streamlined topic-based approach.

III. Executive Order (E.O.) 12866

The Office of Information and Regulatory Affairs determined that this draft NUREG is not a significant regulatory action under E.O. 12866.

Dated: July 24, 2025.
For the Nuclear Regulatory Commission.
Michael Brown,
Chief, Non-Power Production and Utilization Facility Oversight Branch, Division of Advanced Reactors and Non-Power Production and Utilization Facilities, Office of Nuclear Reactor Regulation.

[FR Doc. 2025-14174 Filed 7-25-25; 8:45 am]

BILLING CODE 7590-01-P